FEDERAL MARITIME COMMISSION

[Docket No. 24-13]

Access One Transport, Inc., Complainant v. COSCO Shipping Lines Co. Ltd., Respondent; Notice of Filing of Complaint and Assignment

Served: March 1, 2024.

Notice is given that a complaint has been filed with the Federal Maritime Commission (the “Commission”) by Access One Transport, Inc. (the “Complainant”) against COSCO Shipping Lines Co. Ltd. (the “Respondent”). Complainant states that the Commission has subject matter jurisdiction over the complaint pursuant to the Shipping Act of 1984, as amended, 46 U.S.C. 40101 et seq. and personal jurisdiction over the Respondent as an ocean common carrier, as defined in 46 U.S.C. 40102(7) and (18).

Complainant is a California corporation with a principal place of business in Gardena, California that operates as a licensed motor carrier.

Complainant identifies Respondent as a corporation organized under the laws of China with its corporate headquarters in Shanghai, China, that has a U.S. agent, COSCO Shipping (North America), Inc., with a principal place of business in Secaucus, New Jersey, and as an ocean common carrier at all times pertinent to the complaint.

Complainant alleges that Respondent violated 46 U.S.C. 41102(c), 41104(a)(3), and 41104(a)(8). Complainant alleges these violations arose from acts or omissions of the Respondent that rendered Complainant unable to return empty containers within the allowable free time, including the imposition of dual transaction restrictions and return limits, and the unavailability of appointments. Complainant also alleges these violations caused various damages to the Complainant, including detention charges, chassis charges, storage costs, stop off charges, and re-delivery charges.

An answer to the complaint must be filed with the Commission within 25 days after the date of service.

The full text of the complaint can be found in the Commission's electronic Reading Room at https://www2.fmc.gov/readingroom/proceeding/24-13/. This proceeding has been assigned to the Office of Administrative Law Judges. The initial decision of the presiding judge shall be issued by March 3, 2025, and the final decision of the Commission shall be issued by September 18, 2025.

David Eng,
Secretary.

[FR Doc. 2024-04861 Filed 3-6-24; 8:45 am]

BILLING CODE 6730-02-P